DEPARTMENT OF EDUCATION

Submission for OMB Review; Comment Request

AGENCY: Department of Education.

SUMMARY: The Director, Information Collection Clearance Division, Regulatory Information Management Services, Office of Management invites comments on the submission for OMB review as required by the Paperwork Reduction Act of 1995.

DATES: Interested persons are invited to submit comments on or before August 31, 2009.

ADDRESSES: Written comments should be addressed to the Office of Information and Regulatory Affairs, Attention: Education Desk Officer, Office of Management and Budget, 725 17th Street, NW., Room 10222, New Executive Office Building, Washington, DC 20503, be faxed to (202) 395-5806 or send e-mail to oira_submission@omb.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: July 24, 2009.
Angela C. Arrington,
Director, Information Collection Clearance Division, Regulatory Information Management Services, Office of Management.

Office of Planning, Evaluation and Policy Development

Type of Review: New.

Title: Evaluation of the Implementation of the Carl D. Perkins Career and Technical Education Act of 2006.

Frequency: On Occasion.

Affected Public: State, Local, or Tribal Gov't, SEAs or LEAs.

Reporting and Recordkeeping Hour Burden:

Responses: 1,087.

Burden Hours: 1,376.

Abstract: The 2011 National Assessment of Career and Technical Education (NACTE) will examine the implementation of the Carl D. Perkins Career and Technical Education Act of 2006 (Perkins IV). This evaluation study, which is part of a larger evaluation effort directed by the Policy and Program Studies Service (PPSS), focuses on evaluating how state agencies and local providers are responding to the new legislation and how new provisions contained within the legislation are being implemented. Information collected from the NACTE study will be incorporated in two reports submitted to Congress: an interim report (due January 1, 2010) and final report (due July 1, 2011), which are mandated in the legislation. These reports are to detail the condition of CTE and the success of state agencies and local programs in improving the quality of CTE services. To capture state agency staff and local provider input about the Act's implementation, researchers will administer surveys to the state secondary and postsecondary director of CTE in each of the 50 states, the District of Columbia, and other territories and possessions in outlying areas. A second set of surveys will be administered to a nationally representative sample of 1,265 secondary level local education agencies and/or intermediary agencies (i.e., dedicated CTE facilities) and 765 institutions of higher education. To assess the distribution of federal resources to local programs, researchers will collect 2008-09 fiscal allocation data from state secondary and postsecondary agencies administering federal Perkins dollars.

Requests for copies of the information collection submission for OMB review may be accessed from http://edicsweb.ed.gov, by selecting the “Browse Pending Collections” link and by clicking on link number 4012. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-18191 Filed 7-29-09; 8:45 am]

BILLING CODE 4000-01-P